DEPARTMENT OF LABOR

Mine Safety and Health Administration

30 CFR Part 75

RIN 1219-AA98

Low- and Medium-Voltage Diesel-Powered Electrical Generators

AGENCY: Mine Safety and Health Administration (MSHA), Labor.

ACTION: Proposed rule; notice of public hearings; close of comment period.

SUMMARY: We are announcing that we will hold four public hearings on the proposed rule to amend the existing standards concerning protection of low- and medium-voltage three-phase circuits used underground to allow the use of low- and medium-voltage diesel-powered electrical generators as an alternative means of powering electrical equipment. The rule would eliminate the need for mine operators to file petitions for modification to use these generators to power electrical equipment while maintaining the existing level of protection for miners.

The hearings will be held on the same days, in the same locations, as the MSHA public hearings for the High Voltage Continuous Mining Equipment Standards (HVCM) proposed rule. These hearings will follow the HVCM hearings, and will begin in the afternoon. The announcement of the HVCM hearings was published in a separate Federal Register notice on Friday, July 16, 2004 (69 FR 42812).

DATES: All comments on the proposed rule, including post-hearing comments, must be received by October 14, 2004, the close of the comment period.

The public hearing dates and locations are listed in the Public Hearings section under SUPPLEMENTARY INFORMATION. Individuals or organizations wishing to make oral presentations for the record should submit a request at least 5 days prior to the hearing dates. However, commenters do not need to submit a request in advance in order to speak at the hearing.

ADDRESSES: You may submit comments, by any of the following methods:

• Federal eRulemaking Portal: http://www.regulations.gov. Follow the instructions for submitting comments.

• E-mail: Comments@MSHA.gov. Include RIN 1219-AA98 in the subject line of the message.

• Fax: (202) 693-9441.

• Mail/Hand Delivery/Courier: MSHA, Office of Standards, Regulations, and Variances, 1100 Wilson Blvd., Room 2313, Arlington, Virginia 22209-3939.

Instructions: All submissions must reference MSHA and RIN 1219-AA98, (the Regulatory Information Number for this rulemaking).

Docket: To access comments received, go to http://www.MSHA.gov or MSHA, Office of Standards, Regulations, and Variances, 1100 Wilson Blvd., Room 2350, Arlington, Virginia. All comments received will be posted without change to http://www.msha.gov, including any personal information provided.

FOR FURTHER INFORMATION CONTACT: Marvin W. Nichols, Jr., Director, Office of Standards, Regulations, and Variances, MSHA, 1100 Wilson Boulevard, Room 2350, Arlington, Virginia 22209-3939. Mr. Nichols can be reached at nichols.marvin@dol.gov (Internet E-mail), (202) 693-9440 (voice), or (202) 693-9441 (facsimile). This notice is available on the Internet at http://www.msha.gov/REGSINFO.HTM.

SUPPLEMENTARY INFORMATION:

I. Background Information

On June 25, 2004, (69 FR 35992) we published a proposed rule in the Federal Register that would amend the existing standards concerning protection of low- and medium-voltage three-phase circuits used underground to allow the use of low- and medium-voltage diesel-powered electrical generators as an alternative means of powering electrical equipment. The generators are portable and are used to power electrical equipment when moving the equipment in, out, and around the mine and when performing work in areas where permissible equipment is not required. The rule would eliminate the need for mine operators to file petitions for modification to use these generators to power electrical equipment while maintaining the existing level of protection for miners.

Since publication of the proposed rule, we have received a request for a hearing on the rule.

II. Public Hearings

We will hold four public hearings on the same days, in the same locations, as the MSHA public hearings for the HVCM standards. The hearings addressing HVCM will begin at 9 a.m. local time each day; the hearings addressing this proposed rule, Low- and Medium-Voltage Diesel Powered Electrical Generators, will be held on the same days, beginning at 1 p.m. and will end after the last speaker testifies. The hearings will be held on the following dates at the locations indicated:

Date | Location | Telephone
September 21, 2004 | Sheraton Birmingham, 2101 Richard Arrington Jr. Blvd. North, Birmingham, Alabama 35203 | (205) 324-5000
September 23, 2004 | Sheraton Suites Lexington, 2601 Richmond Road, Lexington, Kentucky 40509 | (859) 268-0060
September 28, 2004 | Little America Hotel, 500 S Main Street, Salt Lake City, Utah 84101 | (801) 363-6781
September 30, 2004 | Hyatt Regency Pittsburgh International Airport, 1111 Airport Road, Pittsburgh, Pennsylvania 15231 | (724) 899-1234

The hearings will begin with an opening statement from MSHA, followed by an opportunity for members of the public to make oral presentations. You do not have to make a written request to speak; however, speakers who make a request in advance will speak first. Any unalloted time will be made available for commenters making same-day requests for oral presentations. These commenters will speak in the order they sign in. At the discretion of the presiding official, the time allocated to speakers for their presentation may be limited. Speakers and attendees may also present information to the MSHA panel for inclusion in the rulemaking record.

The hearings will be conducted in an informal manner. The hearing panel may ask questions of speakers. Although formal rules of evidence or cross examination will not apply, the presiding official may exercise discretion to ensure the orderly progress of the hearing and may exclude irrelevant or unduly repetitious material and questions.

A verbatim transcript of the proceedings will be included in the rulemaking record. Copies of this transcript will be available to the public, and can be viewed at http://www.msha.gov.

We will accept post-hearing written comments and other appropriate data for the record from any interested party, including those not presenting oral statements, prior to the close of the October 14, 2004 post-hearing comment period.

Dated: July 21, 2004.
Dave D. Lauriski,
Assistant Secretary for Mine Safety and Health.

[FR Doc. 04-16903 Filed 7-23-04; 8:45 am]

BILLING CODE 4510-43-P